SECURITIES AND EXCHANGE COMMISSION

Sunshine Act Meeting

Notice is hereby given, pursuant to the provisions of the Government in the Sunshine Act, Public Law 94-409, that the Securities and Exchange Commission will hold the following meeting during the week of January 16, 2006:

An open meeting will be held on Tuesday, January 17, 2006 at 10 a.m. in Room L-002, the Auditorium.

The subject matter of the open meeting scheduled for Tuesday, January 17, 2006 will be:

The Commission will consider whether to propose amendments to the disclosure requirements for executive and director compensation, related party transactions, director independence and other corporate governance matters, and securities ownership of officers and directors. The Commission will also consider whether to propose amendments to require most of the disclosure in proxy and information statements to be provided in plain English.

For further information, please contact Anne Krauskopf or Carolyn Sherman, Division of Corporation Finance at (202) 551-3500 or, with regard to investment companies and business development companies, Kieran Brown, Division of Investment Management at (202) 551-6784.

At times, changes in Commission priorities require alterations in the scheduling of meeting items. For further information and to ascertain what, if any, matters have been added, deleted or postponed, please contact:

The Office of the Secretary at (202) 551-5400.

Dated: January 6, 2006.
J. Lynn Taylor,
Assistant Secretary.

[FR Doc. 06-254 Filed 1-6-06; 4:05 pm]

BILLING CODE 8010-01-P